DEPARTMENT OF TRANSPORTATION

Federal Railroad Administration

[Docket No. FRA-2023-0002-N-10]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On March 24, 2023, FRA published a notice providing a 60-day period for public comment on the ICR.

DATES: Interested persons are invited to submit comments on or before July 21, 2023.

ADDRESSES: Written comments and recommendations for the proposed ICR should be sent within 30 days of publication of this notice to www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On March 24, 2023, FRA published a 60-day notice in the Federal Register soliciting public comment on the ICR for which it is now seeking OMB approval. See 88 FR 17917. FRA received no comments related to the proposed collection of information.

Before OMB decides whether to approve this proposed collection of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICR regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: System Safety Program Plan.

OMB Control Number: 2130-0599.

Abstract: In 2020, FRA issued a final rule ¹ that requires passenger rail operations to develop and implement a system safety program (SSP) to improve the safety of their operations.

¹ 85 FR 12826 (Mar. 4, 2020).

FRA uses the information collected to help ensure that commuter and intercity passenger rail operations establish and implement SSPs to improve the safety of their operations and to confirm compliance with the rule. Each passenger rail operation should use its SSP to proactively identify and mitigate or eliminate hazards and the resulting risk on its system at an early stage to reduce the number of railroad accidents, incidents, and associated injuries, fatalities, and property damage. A passenger rail operation has the flexibility to tailor an SSP to its specific operations. An SSP must be fully implemented within 36 months of FRA's approval of a passenger rail operation's submitted SSP plan. Under the SSP regulation, FRA will audit a passenger rail operation's compliance with its SSP plan and will use the information collected to ensure compliance with this regulation.

Type of Request: Extension without change (with changes in estimates) of a currently approved collection.

Affected Public: Businesses.

Form(s): N/A.

Respondent Universe: 33 passenger rail operations + 1 new passenger rail operation.

Frequency of Submission: On occasion.

Total Estimated Annual Responses: 767.

Total Estimated Annual Burden: 1,891 hours.

Total Estimated Annual Burden Hour Dollar Cost Equivalent: $153,019.

FRA informs all interested parties that it may not conduct or sponsor, and a respondent is not required to respond to, a collection of information that does not display a currently valid OMB control number.

(Authority: 44 U.S.C. 3501-3520)

Brett A. Jortland,
Deputy Chief Counsel.

[FR Doc. 2023-13131 Filed 6-20-23; 8:45 am]

BILLING CODE 4910-06-P